COMMISSION ON CIVIL RIGHTS

Sunshine Act Meeting

AGENCY: United States Commission on Civil Rights.

ACTION: Notice of Commission Business Meeting.

DATES: Date and Time: Friday, November 21, 2014; 9:30 a.m. EST.

ADDRESSES: Place: 1331 Pennsylvania Ave. NW., Suite 1150, Washington, DC.

FOR FURTHER INFORMATION CONTACT: Lenore Ostrowsky, Acting Chief, Public Affairs Unit (202) 376-8591.

Hearing-impaired persons who will attend the briefing and require the services of a sign language interpreter should contact Pamela Dunston at (202) 376-8105 or at signlanguage@usccr.gov at least seven business days before the scheduled date of the meeting.

SUPPLEMENTARY INFORMATION:

Meeting Agenda

This meeting is open to the public.

I. Approval of Agenda

II. Program Planning

• Vote on 2015 Business Meeting Calendar

• Schedule FY 2015 Briefings

• Discussion and Vote on Updating the USCCR Anti-Semitism Report

• Discussion on Staff Report re: St. Louis County, Missouri

III. Management and Operations

• CFC Campaign 2015

• Staff Director's Report

IV. State Advisory Committee (SAC) Appointments

• Alaska

• Montana

• New Mexico

• Wyoming

V. Adjourn Meeting

Dated: November 10, 2014.
Marlene Sallo,
Staff Director.

[FR Doc. 2014-27063 Filed 11-12-14; 11:15 am]

BILLING CODE 6335-01-P